DEPARTMENT OF ENERGY

Biological and Environmental Research Advisory Committee

AGENCY: Department of Energy; Office of Science.

ACTION: Notice of open teleconference meeting.

SUMMARY: This notice announces a teleconference meeting of the Biological and Environmental Research Advisory Committee. Federal Advisory Committee Act (Pub. L. 92-463, 86 Stat. 770) requires that public notice of these meetings be announced in the Federal Register.

DATES: Thursday, April 3, 2008, 2 p.m. to 4 p.m. E.D.T.

ADDRESSES: Participants may call Ms. Joanne Corcoran at (301) 903-6488 to receive a call-in number by April 1, 2008. Public participation is welcomed; however, the number of teleconference lines is limited and available on a first come basis.

FOR FURTHER INFORMATION CONTACT: Dr. David Thomassen, Designated Federal Officer, Biological and Environmental Research Advisory Committee, U.S. Department of Energy, Office of Science, Office of Biological and Environmental Research, SC-23/Germantown Building, 1000 Independence Avenue, SW., Washington, DC 20585-1290, (301) 903-9817 or david.thomassen@science.doe.gov.

SUPPLEMENTARY INFORMATION: Purpose of the Meeting: To provide advice on a continuing basis to the Director, Office of Science of the Department of Energy, on the many complex scientific and technical issues that arise in the development and implementation of the Biological and Environmental Research Program.

Tentative Agenda

• DOE Perspectives, Raymond L. Orbach, Under Secretary for Science.

• Discussion of joint ASCAC/BERAC subcommittee report to identify the key computational and information technology obstacles to advancing climate change science, improving climate change projections using state-of-the-science coupled climate models, and how progress could be accelerated through targeted investments in applied mathematics, computer science, and computational climate science. See complete BERAC Charge dated June 26, 2007.

• New business.

• Public Comment.

Copies of the Charge letters may be found at http://www.sc.doe.gov/ober/berac/charges.html.

Draft Subcommittee reports are not public documents and are only made publicly available after BERAC approval. All BERAC reports, once approved, are posted on the BERAC Web site at: http://www.science.doe.gov/ober/berac/Reports.html.

Public Participation: The teleconference meeting is open to the public. If you would like to file a written statement with the Committee, you may do so either before or after the meeting. If you would like to make oral statements regarding any of the items on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room, 1E-190, Forrestal Building, 1000 Independence Avenue, SW., Washington, DC, between 9 a.m. and 4 p.m., Monday through Friday, except Federal holidays.

Issued in Washington, DC, on March 11, 2008.
Rachel Samuel,
Deputy Committee Management Officer.

[FR Doc. E8-5197 Filed 3-13-08; 8:45 am]

BILLING CODE 6450-01-P